DEPARTMENT OF THE INTERIOR

Fish and Wildlife Service

Notice of Availability of the Final Comprehensive Conservation Plan for Lost Trail National Wildlife Refuge, Marion, MT

AGENCY: Fish and Wildlife Service, Interior.

ACTION: Notice of availability.

SUMMARY: The U.S. Fish and Wildlife Service announces that a Final Comprehensive Conservation Plan (CCP) for Lost Trail National Wildlife Refuge is available. This CCP, prepared pursuant to the National Wildlife Refuge System Improvement Act of 1997 and the National Environmental Policy Act of 1969, describes how the U.S. Fish and Wildlife Service intends to manage this refuge for the next 15 years.

ADDRESSES: A copy of the Final CCP or Summary may be obtained by writing to U.S. Fish and Wildlife Service, Lost Trail National Wildlife Refuge, 6295 Pleasant Valley Road, Marion, Montana 59925; or downloaded from http://mountain-prairie.fws.gov/planning.

FOR FURTHER INFORMATION CONTACT: Ray Washtak, Refuge Manager, U.S. Fish and Wildlife Service, Lost Trail National Wildlife Refuge, 6295 Pleasant Valley Road, Marion, Montana 59925; telephone 406-858-2216; fax 406-858-2218; or e-mail: ray_washtak@fws.gov.

SUPPLEMENTARY INFORMATION: Lost Trail National Wildlife Refuge (NWR), comprised of nearly 9,300 acres, is long and narrow and is nearly bisected throughout its length by the Pleasant Valley Road in Flathead County, in extreme northwestern Montana. This breathtakingly beautiful refuge was established in 1999 and is nestled in Montana's Pleasant Valley, within the Fisher River watershed. Lost Trail NWR can be described as a long valley crossed by Pleasant Valley Creek and encompassing the 182-acre Dahl Lake. Lost Trail NWR is comprised of wetlands, lush riparian corridors, uplands dominated by prairie and tame grasses, and temperate forests dominated by lodgepole pine and Douglas fir. Besides numerous migratory waterfowl and neotropical bird species, this refuge is home to federally listed species such as the bald eagle, black tern and Spalding's catchfly. Canada lynx and trumpeter swan occasionally use refuge habitats, and the grizzly bear, gray wolf, and bull trout occur in Pleasant Valley. Lost Trail NWR was established by Congress with the following purposes: (1) “* * * for use by migratory birds, with emphasis on waterfowl and other water birds * * *” (Migratory Bird Conservation Act); (2) “* * * for the conservation of fish and wildlife resources * * *” (Fish and Wildlife Act); (3) “ * * * for fish and wildlife-oriented recreation * * *” (The Refuge Recreation Act); and (4) for the conservation of endangered and threatened species (Endangered Species Act of 1973, as amended).

This Final CCP identifies goals, objectives, and strategies for the management of Lost Trail NWR that emphasize restoration and maintenance of Dahl Lake and other native habitats, in vigorous condition, to promote biological diversity. The CCP places high importance on the control of invasive plant species with partners and integrated pest management. It seeks to provide habitats in order to contribute to conservation, enhancement and recovery of federally listed species and possible modification of public uses to protect visitors and minimize harmful interaction between users and listed species.

The availability of the Draft CCP and Environmental Assessment (EA) for a 30-day public review and comment period was announced in the Federal Register on July 20, 2005 (FO FR 41786). The Draft CCP/EA evaluated four alternatives for managing Lost Trail NWR. Alternative D, the No Action Alternative, proposed continuation of current management of the refuge. Alternative B emphasized manipulation of habitat to promote wildlife populations to provide the public with abundant quality wildlife recreation, as well as research, documentation, and interpretation of cultural resources. It also called for a contact station staffed 7 days a week. Alternative C called for restoration of habitats to historic conditions and allowance of natural processes to manage habitats. It called for increased protection of listed species, and de-emphasizing public use opportunities at the refuge (such as no fishing and hunting, except by special permit).

Based on this assessment and comments received, Alternative A, which is the proposed action, was selected because it best meets the purposes and goals of the refuge, as well as the goals of the National Wildlife Refuge System. The management direction of this refuge is expected to also benefit federally listed species, large ungulates, shore birds, migrating and nesting waterfowl, and neotropical migrants, as well as improve water quality from riparian habitat restoration. It identifies increased environmental education and partnerships that are likely to result in improved wildlife-dependent recreational opportunities. Finally, the CCP places high importance on the protection of cultural and historical resources.

Dated: October 17, 2005.
Sharon R. Rose,
Acting Deputy Regional Director, Region 6, Denver, CO.

[FR Doc. 06-1296 Filed 2-13-06; 8:45 am]

BILLING CODE 4310-55-P